DEPARTMENT OF THE INTERIOR

National Park Service

[NPS-WASO-NAGPRA-NPS0039472; PPWOCRADN0-PCU00RP14.R50000]

Notice of Inventory Completion: University of Wisconsin Oshkosh, Oshkosh, WI

AGENCY: National Park Service, Interior.

ACTION: Notice.

SUMMARY: In accordance with the Native American Graves Protection and Repatriation Act (NAGPRA), the University of Wisconsin Oshkosh (UWO) has completed an inventory of associated funerary objects and has determined that there is a cultural affiliation between the associated funerary objects and Indian Tribes or Native Hawaiian organizations in this notice.

DATES: Repatriation of the associated funerary objects in this notice may occur on or after April 17, 2025.

ADDRESSES: Adrienne Frie, University of Wisconsin Oshkosh, 800 Algoma Blvd., Oshkosh, WI 54901, telephone (920) 424-1365, email friea@uwosh.edu.

SUPPLEMENTARY INFORMATION: This notice is published as part of the National Park Service's administrative responsibilities under NAGPRA. The determinations in this notice are the sole responsibility of UWO, and additional information on the determinations in this notice, including the results of consultation, can be found in the inventory or related records. The National Park Service is not responsible for the determinations in this notice.

Abstract of Information Available

A single box containing biface fragments was discovered at the University of Wisconsin Oshkosh with documentation that read, “Riverside Site. 20-ME-1 Menominee County, Michigan. 7 Horstone biface fragment. Gift from Robert Hruska. Date of donation unknown. No accession number.” The Riverside Site (20-ME-0001) was excavated jointly by the Oshkosh Public Museum (OPM) and Milwaukee Public Museum (MPM) between 1961 and 1963. The excavation was led by Robert Hruska of OPM and Robert Ritzenthaler of MPM. Most of the site collections were donated to the MPM by the OPM on September 26, 1968. The Riverside Cemetery site has evidence of occupation dating from the Late Archaic (2550-300 B.C.) through the Late Woodland Period (A.D. 500-1100). The bifaces held by UWO, known as Hornstone Bifaces, were an extremely common funerary object at the Riverside Site. Large caches of these bifaces were recorded by Hruska in his excavations. The seven associated funerary objects are seven chipped-stone biface fragments.

Cultural Affiliation

Based on the information available and the results of consultation, cultural affiliation is reasonably identified by the geographical location, expert opinion, oral tradition, and archaeological evidence of the associated funerary objects described in this notice.

Determinations

UWO has determined that:

• The seven objects described in this notice are reasonably believed to have been placed intentionally with or near individual human remains at the time of death or later as part of the death rite or ceremony.

• There is a reasonable connection between the associated funerary objects described in this notice and the Menominee Indian Tribe of Wisconsin.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after April 17, 2025. If competing requests for repatriation are received, UWO must determine the most appropriate requestor prior to repatriation. Requests for joint repatriation of the associated funerary objects are considered a single request and not competing requests. UWO is responsible for sending a copy of this notice to the Indian Tribes and Native Hawaiian organizations identified in this notice.

Authority: Native American Graves Protection and Repatriation Act, 25 U.S.C. 3003, and the implementing regulations, 43 CFR 10.10.

Dated: February 4, 2025.
Melanie O'Brien,
Manager, National NAGPRA Program.

[FR Doc. 2025-04361 Filed 3-17-25; 8:45 am]

BILLING CODE 4312-52-P